DEPARTMENT OF DEFENSE

Office of the Secretary

Defense Business Board; Notice of Federal Advisory Committee Meeting; Amendment

AGENCY: Office of the Deputy Secretary of Defense, Department of Defense (DoD).

ACTION: Notice of Federal advisory committee meeting; amendment.

SUMMARY: On Friday, January 19, 2024, the DoD published a notice announcing a partially closed meeting of the Defense Business Board (DBB) on February 6 and 7, 2024. Subsequent to publication of the notice, DoD is making changes to the meeting agenda. The amended meeting agenda is included in this notice.

DATES: Closed to the public February 6 from 10:15 a.m. to 7:05 p.m. and on February 7 from 9:20 a.m. to 10:20 a.m. Open virtually to the public February 6 from 9 a.m. to 10:15 a.m. and February 7 from 10:20 a.m. to 11:35 a.m. All eastern standard time.

ADDRESSES: The open and closed portions of the meeting will be in Room M2 of the Pentagon Library Conference Center and 4D880 in the Pentagon, Washington, DC.

FOR FURTHER INFORMATION CONTACT: Ms. Cara Allison Marshall, Designated Federal Officer (DFO) of the Board in writing at Defense Business Board, 1155 Defense Pentagon, Room 5B1088A, Washington, DC 20301-1155; or by email at cara.l.allisonmarshall.civ@mail.mil; or by phone at 703-614-1834.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Due to circumstances beyond the control of the Department of Defense and Designated Federal Officer, the Defense Business Board was unable to provide public notification required by 41 CFR 102-3.150(a) concerning its amended February 6-7, 2024 meeting notice. Accordingly, the Advisory Committee Management Officer for the Department of Defense, pursuant to 41 CFR 102-3.150(b), waives the 15-calendar day notification requirement.

Purpose of the Meeting: The mission of the Board is to examine and advise the Secretary of Defense on overall DoD management and governance. The Board provides independent, strategic-level, private sector and academic advice and counsel on enterprise-wide business management approaches and best practices for business operations and achieving National Defense goals.

Agenda: The Board will begin in open session on February 6 from 9 a.m. to 10:15 a.m. The DFO will begin the open session followed by a welcome by Board Chair, Hon. Deborah James. The Board will receive a discussion on the Role of Private Industry and Business in the National Defense Industrial Strategy (NDIS) from Hon. Radha Iyengar Plumb, Deputy Under Secretary of Defense for Acquisition and Sustainment. The NDIS provides the strategic vision to coordinate actions and emphasizes four long-term strategic priorities: building resilient supply chains, securing workforce readiness, enabling flexible acquisition, and promoting economic deterrence. The discussion will focus on how business leaders can best support the NDIS and ways to overcome the obstacles to implementation. The DFO will adjourn the open session. The Board will reconvene in closed session on February 6 from 10:15 a.m. to 7:05 p.m. The DFO will begin the closed session. The Board will receive a classified discussion on the DoD Audit and Incremental Progress from Hon. Michael McCord, Under Secretary of Defense (Comptroller)/Chief Financial Officer. This session will include an overview of the latest DoD Audit, progress to date, and the path forward. Discussion will include current obstacles and historic challenges to obtaining a clean audit. After a lunch break, the Board will receive a classified discussion on the State of the Workforce—Recruiting, Training, Retention, Obstacles, and Solutions from Chief Master Sergeant of the Air Force JoAnne Bass. The conversation is expected to delve into the multifaceted aspects of managing a contemporary workforce, addressing challenges in recruiting talent in the current environment, implementing effective training programs, and devising retention strategies. Discussion will focus on identifying obstacles such as changing workforce expectations, skill gaps to address future needs per the National Security Strategy (NSS); and exploring innovative solutions to foster a resilient and high-performing workforce. Following a short break, the Board will receive a classified discussion on DoD Industry Partnerships from Mr. Jedidiah P. Royal, Principal Deputy Assistant Secretary of Defense for Indo-Pacific Security Affairs, Office of the Under Secretary of Defense for Policy. Mr. Royal will discuss his work with allies and partners in the Indo-Pacific region to obtain key capabilities for a future warfighter. Following, the Board will receive a classified discussion on Current Operations, Crisis Action Planning, and Adaptive Decision Making in Dynamic Environments from LTG Douglas A. Sims II, U.S. Army, Director for Operations, Joint Staff. This forum will explore the intersection of military operations and corporate crisis management, highlighting the parallels between the principles of current operations, crisis action planning, and adaptive decision-making in both contexts. Through this exploration, participants can gain valuable insights into proactive crisis management, strategic preparedness for “black swan” events, and the cultivation of an agile organizational culture that is capable of navigating complex and rapidly changing landscapes. The Board will transition to the Air Force Mess for their final closed session on February 6. The Board Chair, Hon Deborah James will provide remarks, followed by remarks from the Deputy Secretary, Hon. Kathleen Hicks. Next, the Board will hear a classified update from the Defense Advanced Research Projects Agency (DARPA) Director, Dr. Stefanie Tompkins. This discussion focuses on significant updates from DARPA in support of the NSS, how they have a different remit from the DoD, and what best business practices could be imported to the rest of the DoD. The DFO will adjourn the closed session. The Board will begin in closed session on February 7 from 9:20 a.m. to 10:20 a.m. in Room M2 of the Pentagon Library Conference Center. The DFO will begin the closed session followed by a welcome by Board Chair. The Board will receive a classified discussion on the “Replicator” Initiative from Hon. Kathleen Hicks, Deputy Secretary of Defense; Ms. Aditi Kumar, Deputy Director for Strategy, Policy, and National Security Partnerships at Defense Innovation Unit; and Ms. Joy Shanaberger, Senior Advisor to the Deputy Secretary of Defense. This discussion focuses on DoD's initiative on meeting critical warfighter needs at speed and scale. The DFO will adjourn the closed session. The Board will reconvene in open session February 7 from 10:20 a.m. to 11:35 a.m. The DFO will begin the public session followed by a discussion on Supply Chain Risk Management from Brigadier General Stephanie Howard, U.S. Army Reserve, Executive Director for Operational Contract Support, Office of the Under Secretary of Defense for Acquisition and Sustainment. This segment will focus on supply chain risk management in the context of strategic competition, including how DoD can access and share information while protecting intellectual property. The discussion will focus on the experience of business leaders in managing similar challenges within large companies, and best practices for evaluating risks. The DFO will then adjourn the open session. The latest version of the agenda will be available on the DBBs website at: https://dbb.dod.afpims.mil/Meetings/Meeting-February-2024/.

Meeting Accessibility: In accordance with 5 U.S.C. 1009(d) and 41 CFR 102-3.155, it is hereby determined that the February 6-7 meeting of the Board will include classified information and other matters covered by 5 U.S.C. 552b(c)(1) and that, accordingly, portions of the meeting will be closed to the public. This determination is based on the consideration that it is expected that discussions throughout the closed portions will involve classified matters of national security. Such classified material is so intertwined with the unclassified material that it cannot reasonably be segregated into separate discussions without defeating the effectiveness and meaning of these portions of the meeting. To permit these portions of the meeting to be open to the public would preclude discussion of such matters and would greatly diminish the ultimate utility of the Board's findings and recommendations to the Secretary of Defense and the Deputy Secretary of Defense. Pursuant to 5 U.S.C. 1009(a)(1) and 41 CFR 102-3.140, the portion of the meeting on February 7 from 9 a.m. to 11:40 a.m. is open to the public virtually. Persons desiring to attend the public sessions are required to register. To attend the public sessions, submit your name, affiliation/organization, telephone number, and email contact information to the Board at osd.pentagon.odam.mbx.defense-business-board@mail.mil. Requests to attend the public sessions must be received no later than 12 p.m. on Monday, February 5, 2024. Upon receipt of this information, the Board will provide further instructions for virtually attending the meeting.

Written Comments and Statements: Pursuant to 41 CFR 102-3.105(j) and 102-3.140 and 5 U.S.C. 1009(a)(3) of the FACA, the public or interested organizations may submit written comments or statements to the Board in response to the stated agenda of the meeting or regarding the Board's mission in general. Written comments or statements should be submitted to Ms. Cara Allison Marshall, the DFO, via electronic mail (the preferred mode of submission) at the address listed in the FOR FURTHER INFORMATION CONTACT section. Each page of the comment or statement must include the author's name, title or affiliation, address, and daytime phone number. The DFO must receive written comments or statements submitted in response to the agenda set forth in this notice by 12 p.m. on Monday, February 5, 2024, to be considered by the Board. The DFO will review all timely submitted written comments or statements with the Board Chair and ensure the comments are provided to all members of the Board before the meeting. Written comments or statements received after this date may not be provided to the Board until its next scheduled meeting. Please note that all submitted comments and statements will be treated as public documents and will be made available for public inspection, including, but not limited to, being posted on the Board's website.

Dated: February 9, 2024.
Aaron T. Siegel,
Alternate OSD Federal Register Liaison Officer, Department of Defense.

[FR Doc. 2024-03356 Filed 2-16-24; 8:45 am]

BILLING CODE 6001-FR-P